SECURITIES AND EXCHANGE COMMISSION

[File No. 500-1]

Desert Mining, Inc., Eagle Broadband, Inc., Endovasc, Inc., Environmental Oil Processing Technology Corp., Falcon Ridge Development, Inc., Fellows Energy Ltd., Forster Drilling Corp. (n/k/a Phoenix Drilling Corporation), and Golden Autumn Holdings, Inc.; Order of Suspension of Trading

December 28, 2012.

It appears to the Securities and Exchange Commission that there is a lack of current and accurate information concerning the securities of Desert Mining, Inc. because it has not filed any periodic reports since the period ended September 30, 2009.

It appears to the Securities and Exchange Commission that there is a lack of current and accurate information concerning the securities of Eagle Broadband, Inc. because it has not filed any periodic reports since the period ended May 31, 2007.

It appears to the Securities and Exchange Commission that there is a lack of current and accurate information concerning the securities of Endovasc, Inc. because it has not filed any periodic reports since the period ended March 31, 2007.

It appears to the Securities and Exchange Commission that there is a lack of current and accurate information concerning the securities of Environmental Oil Processing Technology Corp. because it has not filed any periodic reports since the period ended September 30, 2002.

It appears to the Securities and Exchange Commission that there is a lack of current and accurate information concerning the securities of Falcon Ridge Development, Inc. because it has not filed any periodic reports since the period ended March 31, 2009.

It appears to the Securities and Exchange Commission that there is a lack of current and accurate information concerning the securities of Fellows Energy Ltd. because it has not filed any periodic reports since the period ended December 31, 2008.

It appears to the Securities and Exchange Commission that there is a lack of current and accurate information concerning the securities of Forster Drilling Corp. (n/k/a Phoenix Drilling Corporation) because it has not filed any periodic reports since the period ended February 29, 2008.

It appears to the Securities and Exchange Commission that there is a lack of current and accurate information concerning the securities of Golden Autumn Holdings, Inc. because it has not filed any periodic reports since the period ended June 30, 2007.

The Commission is of the opinion that the public interest and the protection of investors require a suspension of trading in the securities of the above-listed companies. Therefore, it is ordered, pursuant to Section 12(k) of the Securities Exchange Act of 1934, that trading in the securities of the above-listed companies is suspended for the period from 9:30 a.m. EST on December 28, 2012, through 11:59 p.m. EST on January 11, 2013.

By the Commission.
Elizabeth M. Murphy,
Secretary.

[FR Doc. 2012-31593 Filed 12-28-12; 4:15 pm]

BILLING CODE 8011-01-P